DEPARTMENT OF HEALTH AND HUMAN SERVICES

National Institutes of Health

National Institute of Allergy and Infectious Diseases; Division of Acquired Immunodeficiency Syndrome—AIDS Vaccine Research Working Group; Notice of Meeting

The AIDS Vaccine Research Working Group (AVRWG) will hold a meeting on Wednesday, December 12, 2007, at the William F. Bolger Center, North Building, Benjamin Franklin Hall, 9600 Newbridge Road, Potomac, Maryland 20854, from 8:30 a.m. to approximately 4:30 p.m.

The working group will provide technical input on the (1) results from the STEP trial and their implication for HIV vaccine development, (2) priorities for additional analyses of data and specimens from the trial, and (3) further development of the DNA+Ad5 candidate of the NIAID Vaccine Research Center.

For further information concerning this meeting contact Dr. James Bradac, Division of AIDS, National Institute of Allergy and Infectious Diseases, Room 5116, MSC-7620, 6700-B Rockledge Drive, Bethesda, MD 20892-7620, Telephone: (301) 435-3754, FAX: (301) 402-3684, E-mail: jbradac@niaid.nih.gov.

Dated: November 28, 2007.
James Bradac,
Division of AIDS, NIAID, National Institutes of Health.

[FR Doc. E7-23844 Filed 12-7-07; 8:45 am]

BILLING CODE 4140-01-P